DEPARTMENT OF LABOR

Office of the Secretary

Submission for OMB Review; Comment Request

August 2, 2010.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including, among other things, a description of the likely respondents, proposed frequency of response, and estimated total burden may be obtained from the RegInfo.gov Web site at http://www.reginfo.gov/public/do/PRAMain or by contacting Linda Watts Thomas on 202-693-4223 (this is not a toll-free number)/e-mail to: DOL_PRA_PUBLIC@dol.gov.

Interested parties are encouraged to send comments to the Office of Information and Regulatory Affairs, Attn: OMB Desk Officer for the Department of Labor—Office of Workers' Compensation Programs (OWCP), Room 10235, Washington, DC 20503, Telephone: 202-395-7316/Fax 202-395-5806 (these are not toll-free numbers), e-mail: OIRA_submission@omb.eop.gov within 30 days from the date of this publication in the Federal Register. In order to ensure the appropriate consideration, comments should reference the applicable OMB Control Number (see below).

The OMB is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Agency: Office of Workers' Compensation Programs.

Type of Review: Revision of a currently approved collection.

Title of Collection: Notice of Law Enforcement Officer's Injury or Occupational Disease (CA-721), Notice of Law Enforcement Officer's Death (CA-722).

OMB Control Number: 1240-0022.

Agency Form Number: CA-721 and CA-722.

Affected Public: Individuals or Households; Business or other for-profit; State, local or Tribal Government.

Cost to Federal Government: $184.00.

Total Estimated Number of Respondents: 13.

Total Estimated Number of Responses: 13.

Total Burden Hours: 17.

Total Hour Burden Cost (operating/maintaining): $6.

Description: The Federal Employees' Compensation Act (FECA) provides, under 5 U.S.C. 8191 et seq. and 20 CFR 10.735, that non-Federal law enforcement officers injured or killed under certain circumstances are entitled to the benefits of the Act, to the same extent as if they were employees of the Federal Government. The CA-721 and CA-722 are used by non-Federal law enforcement officers and their survivors to claim compensation under the FECA. Form CA-721 is used for claims for injury. Form CA-722 is used for claims for death. For additional information, see related notice published in the Federal Register on March 5, 2010 (Vol. 75 page 12272).

Dated: July 26, 2010.
Linda Watts Thomas,
Acting Departmental Clearance Officer.

[FR Doc. 2010-19397 Filed 8-5-10; 8:45 am]

BILLING CODE 4510-CH-P